DEPARTMENT OF THE TREASURY

Submission for OMB Review; Comment Request

January 18, 2011.

The Department of the Treasury will submit the following public information collection requirement to OMB for review and clearance under the Paperwork Reduction Act of 1995, Public Law 104-13 on or after the publication date of this notice. A copy of the submission may be obtained by calling the Bureau Information Clearance Officer listed. Comments regarding this information collection should be addressed to the OMB reviewer listed and to the Treasury PRA Clearance Officer, Department of the Treasury, 1750 Pennsylvania Avenue, NW., Suite 11010, Washington, DC 20220.

DATES: Written comments should be received on or before February 24, 2011 to be assured of consideration.

Community Development Financial Instutitions (CDFI) Fund

OMB Number: 1559-0025.

Type of Review: Revision a currently approved collection.

Title: Native American CDFI Assistance (NACA) Program Application.

Form: CDFI 0009.

Description: Through the Native American CDFI Assistance Program, the CDFI Fund will provide technical assistance to CDFIs already serving Native American communities as well as technical assistance to help Native American Communities form new CDFIs.

Estimated Total Burden Hours: 8,000 hours.

CDFI Fund Clearance Officer: Michael Jones, Community Development Financial Institutions Fund, Department of the Treasury, 601 13th Street, NW., Suite 200 South, Washington, DC 20005; (202) 622-2461.

OMB Reviewer: Shagufta Ahmed, Office of Management and Budget, New Executive Office Building, Room 10235, Washington, DC 20503; (202) 395-7873.

Dawn D. Wolfgang,
Treasury PRA Clearance Officer.

[FR Doc. 2011-1517 Filed 1-24-11; 8:45 am]

BILLING CODE 4810-70-P